DEPARTMENT OF TRANSPORTATION

Federal Highway Administration

Public Meeting With Public and Agencies Interested in the Corridor Improvement Project on State Route 76 in San Diego County, California

AGENCY: Federal Highway Administration (FHWA), DOT.

ACTION: Notice of meeting pursuant to 40 CFR part 1500.

SUMMARY: The Federal Highway Administration (FHWA) and California Department of Transportation (Caltrans) in cooperation with the Army Corps of Engineers are proposing a corridor improvement project on State Route 76 from Melrose Drive in Oceanside to South Mission Road in Bonsall, California.

Caltrans has initiated the required environmental documentation process to analyze potential effects the proposed project alternatives may have on the environment. This notice is to inform you of the scheduled public scoping meeting. The public meeting will provide you an opportunity to review and discuss proposed project features. Caltrans will consider substantive comments provided and incorporate necessary changes into the ongoing documentation effort.

The public meeting will not have a formal presentation. This will be an “Open House” format where there will be the opportunity to speak directly with Caltrans representatives about the project and its environmental impacts. All substantive comments will be addressed in the Draft Environmental Document. Comments will become part of the public record and may be submitted at the meeting via the comment sheets provided, mailed, or submitted verbally to the stenographer.

Information for your review and comment will include corridor mapping, a project fact sheet, an aerial photo simulation, and other project information to be provided by Caltrans specialist staff.

DATES: The meeting will be held on Wednesday, October 18, 2006 from 5 p.m. to 8 p.m.

ADDRESSES: The meeting will be held at the Bonsall Middle School, 31505 Old River Road, Bonsall, California.

FOR FURTHER INFORMATION CONTACT: Steve Healow, FHWA-CADIV Project Development Engineer, at (916) 498-5849; Mark Phelan, Caltrans Project Manager, at (619) 688-6803, or Debra Soifer, Caltrans Associate Environmental Planner, at (619) 688-3106. For general information about transportation issues, please call the Caltrans Public Information Office at (619) 688-6670.

SUPPLEMENTARY INFORMATION: Individuals who require special accommodation (American Sign or Foreign Language interpreter, accessible seating, documentation in alternate formats, etc.) are requested to contact the District 11 Public Information Office at (619) 688-6670 at least 14 days prior to the scheduled meeting date. TDD users may contact the California Relay Service TDD line at 1-800-735-2929 or 619/688-3214.

Dated: September 27, 2006.
Lisa Cathcart-Randall,
Senior Transportation Specialist, Federal Highway Administration, Sacramento, California.

[FR Doc. 06-8496 Filed 10-4-06; 8:45 am]

BILLING CODE 4910-22-M